AGENCY FOR INTERNATIONAL DEVELOPMENT

Senior Executive Service: Membership of Performance Review Board

ACTION: Notice.

SUMMARY: This notice lists approved candidates who will comprise a standing roster for service on the Agency's 2017 SES Performance Review Board. The Agency will use this roster to select SES board members. The standing roster is as follows:

Allen, Colleen

Bader, Harry

Broderick, Deborah

Buckley, Ruth

Chan, Carol

Chapotin, Saharah Moon

Crumbly, Angelique

Detherage, Maria

Feinstein, Barbara

Foley, Jason

Girod, Gayle

Jenkins, Robert

Johnson, Mark

Koek, Irene

Kuyumjian, Kent

Leavitt, William

Lewis, Kimberly

Longi, Maria

Mahanand, Vedjai

Mitchell, Reginald

Moore, David

Ohlweiler, John

Pascocello, Susan

Peters, James

Shelat, Neilesh

Steele, Gloria

Vera, Mauricio

Voorhees, John

Walther, Mark

Warren, Gordon

Whyche-Shaw, Oren

FOR FURTHER INFORMATION CONTACT: Maryclare Whitehead, 202-216-3489.

Dated: November 13, 2017.
Karen Baquedano,
Acting Director, Center for Performance Excellence.

[FR Doc. 2017-25381 Filed 11-22-17; 8:45 am]

BILLING CODE P